ENVIRONMENTAL PROTECTION AGENCY

40 CFR Part 52

[AZ 063-0042; FRL-7013-8]

Revisions to the Arizona State Implementation Plan, Pinal County Air Quality Control District

AGENCY: Environmental Protection Agency (EPA).

ACTION: Proposed rule.

SUMMARY: EPA is proposing to approve a revision to the Pinal County Air Quality Control District (PCAQCD) portion of the Arizona State Implementation Plan (SIP). This revision concerns volatile organic compound (VOC) emissions from organic solvents, dry cleaners, coating operations, and degreasers. We are proposing to remove from the SIP a local rule regulating these emission sources under the Clean Air Act as amended in 1990 (CAA or the Act). This action is a reproposal of EPA's July 14, 2000 proposed rule (65 FR 43727) to disapprove this revision to the Arizona SIP. We do not plan to finalize our July 14, 2000 proposed disapproval. We are taking comments on this proposal and plan to follow with a final action.

DATES: Any comments must arrive by August 16, 2001.

ADDRESSES: Mail comments to Andy Steckel, Rulemaking Office Chief (AIR-4), U.S. Environmental Protection Agency, Region IX, 75 Hawthorne Street, San Francisco, CA 94105-3901.

You can inspect copies of the submitted SIP revision and EPA's technical support document (TSDs) at our Region IX office during normal business hours. You may also see copies of the submitted SIP revision at the following locations:

Arizona Department of Environmental Quality, 3033 North Central Avenue, Phoenix, AZ 85012

Pinal County Air Quality Control District, 31 North Pinal Street, Building F, Florence AZ 85232

FOR FURTHER INFORMATION CONTACT: Yvonne Fong, Rulemaking Office (AIR-4), U.S. Environmental Protection Agency, Region IX, (415) 744-1199.

SUPPLEMENTARY INFORMATION: Throughout this document, “we,” “us” and “our” refer to EPA.

Table of Contents

I. The State's Submittal

A. What rule is the State requesting to be rescinded?

B. Are there other versions of this rule?

C. What is the purpose of the submitted rule revision?

II. EPA's Evaluation and Action

A. How is EPA evaluating the rule rescission?

B. Does the rule rescission meet the evaluation criteria?

C. Public comment and reproposal.

III. Background Information

Why was this rule submitted and why is it being rescinded?

IV. Administrative Requirements

I. The State's Submittal

A. What Rule Is the State Requesting To Be Rescinded?

Table 1 lists the rule addressed by this proposal with the dates that it was adopted by the local air agency and submitted by the Arizona Department of Environmental Quality (ADEQ).

Table 1.—Rule Proposed for Rescission
Local agency | Rule No. | Rule title | Adopted | Submitted
PCAQCD | 7-7-3.4 | Organic Solvents | 10/12/95 | 11/27/95

PCAQCD concluded that Rule 7-3-3.4 was not necessary for purposes of attaining and maintaining the ozone National Ambient Air Quality Standards (NAAQS) and the ADEQ forwarded to us the PCAQCD's request to rescind the rule. On February 2, 1996, this rule submittal was found to meet the completeness criteria in 40 CFR part 51, appendix V, which must be met before formal EPA review.

B. Are There Other Versions of This Rule?

We approved a version of Rule 7-3-3.4 into the SIP on April 12, 1982. The PCAQCD rescinded the SIP-approved version on October 12, 1995 and ADEQ submitted the rescission request to us on November 27, 1995.

C. What Is the Purpose of the Submitted Rule Revision?

The submitted rule revision removes a previously approved rule from the SIP. The TSD has more information about why this rule was originally adopted by the PCAQCD and why it is now being removed from the SIP.

II. EPA's Evaluation and Action

A. How Is EPA Evaluating the Rule Rescission?

Generally, SIP rules must be enforceable (see section 110(a) of the Act), must require Reasonably Available Control Technology (RACT) for major sources in nonattainment areas (see section 182(a)(2)(A)), and must not relax existing requirements (see sections 110(l) and 193). The PCAQCD regulates an ozone attainment area (see 40 CFR part 81), so RACT is not required.

Guidance and policy documents that we used to define specific enforceability and RACT requirements include “Issues Relating to VOC Regulation Cutpoints, Deficiencies, and Deviations; Clarification to Appendix D of November 24, 1987 Federal Register Document,” (Blue Book) notice of availability published in the Federal Register on May 25, 1988.

B. Does the Rule Rescission Meet the Evaluation Criteria?

We believe this rule rescission is consistent with the relevant policy and guidance regarding enforceability, RACT, and SIP relaxations. The TSD has more information on our evaluation.

C. Public Comment and Reproposal

On July 14, 2000 (65 FR 43727), EPA proposed to disapprove the rescission of Rule 7-3-3.4 because this revision was submitted with several other replacement rules which weakened the SIP by establishing less stringent emissions limits and by narrowing the scope of regulated sources. During the original 30-day comment period provided in 65 FR 43727 and the subsequent 30-day reopening of the comment period provided in 65 FR 53962, EPA received extensive comments from the PCAQCD and local area businesses.

PCAQCD commented that the rescission of Rule 7-3-3.4 should be approved because it is not necessary to ensure continued attainment of the NAAQS and that the replacement provisions determined by EPA to not be enforceable should also be approved into the SIP as voluntary elements. Alternatively, the PCAQCD commented that EPA could rescind the current SIP rule without approving the replacement provisions.

Pinal County has never been classified as nonattainment for ozone pursuant to section 107 of the Act and Rule 7-3-3.4 is not specifically required by the Act. Supporting documentation submitted during the comment period by the PCAQCD on October 6, 2000 attests that anticipated changes in emissions associated with rescission of Rule 7-3-3.4 will not have a meaningful impact on Pinal County's continued ozone NAAQS attainment status. The TSD has more information on our evaluation.

EPA concurs that the rescission of Rule 7-3-3.4 will not have an adverse air quality impact or otherwise interfere with section 110, 111, 112, or any applicable provision of the Act. Therefore, EPA is proposing to fully approve the rescission of Rule 7-3-3.4 as described in section 110(k)(3) of the Act. At this time we are not finalizing action on the other associated replacement rules included in our original July 14, 2000 proposal.

We will accept comments from the public on this proposal for the next 30 days. Unless we receive convincing new information during the comment period, we intend to publish a final approval action that will remove this rule from the federally enforceable SIP.

III. Background Information

Why Was This Rule Submitted and Why Is It Being Rescinded?

VOCs help produce ground-level ozone and smog, which harm human health and the environment. Section 110(a) of the CAA requires states to submit regulations that control VOC emissions. Table 2 lists some of the national milestones leading to the submittal of these local agency VOC rules.

Table 2.—Ozone Nonattainment Milestones
Date | Event
Mar. 3, 1978 | EPA promulgated a list of ozone nonattainment areas under the Clean Air Act as amended in 1977. 43 FR 8964; 40 CFR 81.305.
Nov. 15, 1990 | Clean Air Act Amendments of 1990 were enacted. Pub. L. 101-549, 104 Stat. 2399, codified at 42 U.S.C. 7401-7671q.

IV. Administrative Requirements

Under Executive Order 12866 (58 FR 51735, October 4, 1993), this proposed action is not a “significant regulatory action” and therefore is not subject to review by the Office of Management and Budget. This proposed action merely approves state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This proposed rule does not impose an information collection burden under the provisions of the Paperwork Reduction Act of 1995 (44 U.S.C. 3501 et seq.).

List of Subjects in 40 CFR Part 52

Environmental protection, Air pollution control, Hydrocarbons, Intergovernmental relations, Ozone, Reporting and recordkeeping requirements, Volatile organic compound.

(Authority: 42 U.S.C. 7401 et seq.)
Dated: June 28, 2001.
Jane Diamond,
Acting Regional Administrator, Region IX.

[FR Doc. 01-17833 Filed 7-16-01; 8:45 am]

BILLING CODE 6560-50-P